DEPARTMENT OF THE INTERIOR

Office of the Secretary of the Interior

Proposed Appointment to the National Indian Gaming Commission

ACTION: Notice.

SUMMARY: The Indian Gaming Regulatory Act provides for a three-person National Indian Gaming Commission. One member, the chairman, is appointed by the President with the advice and consent of the Senate. Two associate members are appointed by the Secretary of the Interior. Before appointing members, the Secretary is required to provide public notice of a proposed appointment and allow a comment period. Notice is hereby given of the proposed appointment of Daniel J. Little as an associate member of the National Indian Gaming Commission for a term of 3 years.

DATES: Comments must be received before March 29, 2010.

ADDRESSES: Comments should be submitted to the Director, Office of the Executive Secretariat, United States Department of the Interior, 1849 C Street, NW., Mail Stop 7229, Washington, DC 20240.

FOR FURTHER INFORMATION CONTACT: Tim Murphy, Division of General Law, United States Department of the Interior, 1849 C Street, NW., Mail Stop 6456, Washington, DC 20240; telephone 202-208-5216.

SUPPLEMENTARY INFORMATION: The Indian Gaming Regulatory Act, 25 U.S.C. 2701 et seq., established the National Indian Gaming Commission (Commission), composed of three full-time members. 25 U.S.C. 2704(b) commission members serve for a term of 3 years. 25 U.S.C. 2705(b)(2)(4)(A). The Chairman is appointed by the President with the advice and consent of the Senate. 25 U.S.C. 2704(b)(1)(B). The two associate members are appointed by the Secretary of the Interior. 25 U.S.C. 2704(b)(1)(B). Before appointing an associate member to the Commission, the Secretary is required to “publish in the Federal Register the name and other information the Secretary deems pertinent regarding a nominee for membership on the commission and * * * allow a period of not less than thirty days for receipt of public comments.” 25 U.S.C. 2704(b)(2)(B).

The Secretary proposes to appoint Daniel J. Little as an associate member of the Commission for a term of 3 years. During more than a decade of experience as manager of national government affairs for the Mashantucket Pequot Tribe, Daniel J. Little has developed an in-depth knowledge of the Indian Gaming Regulatory Act and the regulatory process governing casino operations. He has served as tribal liaison between the Mashantucket Pequot Gaming Commission, the National Indian Gaming Commission, Congress, and other Federal and State agencies. He has also worked closely with the Mashantucket Pequot Gaming Commission commissioners to ensure that the Tribe's casino meets the highest standards of regulatory compliance. Mr. Little's experience includes working with the Tribal Gaming Commission and the National Indian Gaming Commission to implement gaming regulations and working with tribal and government officials at all levels on such gaming-related issues as taxes, economic development, and tribal sovereignty. This experience has given Mr. Little a thorough knowledge of the laws and regulations governing Class II and Class III gaming and casinos. By virtue of his work on gaming issues and his extensive knowledge of relevant laws and regulations, Daniel J. Little is eminently qualified to serve as a member of the National Indian Gaming Commission.

Mr. Little does not have any financial interests that would make him ineligible to serve on the Commission under 25 U.S.C. 2704(b)(5)(B) or (C).

Any person wishing to submit comments on this proposed appointment of Daniel J. Little may submit written comments to the address listed above. Comments must be received by March 29, 2010.

David J. Hayes,
Deputy Secretary.

[FR Doc. 2010-3586 Filed 2-24-10; 8:45 am]

BILLING CODE 4310-17-M